DEPARTMENT OF TRANSPORTATION

Coast Guard

33 CFR Part 117

[CGD01-00-001]

Drawbridge Operation Regulations: Chelsea River, Massachusetts

AGENCY: Coast Guard, DOT.

ACTION: Notice of temporary deviation; withdrawal.

SUMMARY: The Commander, First Coast Guard District has withdrawn the temporary deviation from the drawbridge operation regulations for the P.J. McArdle Bridge, mile 0.3, across the Chelsea River between Chelsea and East Boston, Massachusetts. This withdrawal was necessary because the bridge has been repaired and is operating under its normal operating regulations. The normal operating regulations require the bridge to open on signal at all times for vessel traffic.

DATES: This deviation withdrawal is effective January 18, 2000.

FOR FURTHER INFORMATION CONTACT: John McDonald, Project Officer, First Coast Guard District, at (617) 223-8364.

SUPPLEMENTARY INFORMATION: The bridge owner, the City of Boston, requested a temporary deviation from the operating regulations to facilitate vehicular and pedestrian traffic during electrical repairs at the P. J. McArdle Bridge, mile 0.3, across the Chelsea River between East Boston and Chelsea, Massachusetts. The submarine electrical cable for the bridge was damaged during harbor dredging operations requiring emergency repairs to be implemented in order to restore bridge operation and facilitate marine traffic.

The Coast Guard issued a temporary deviation from the operating regulations published in the Federal Register (65 FR 2541; January 18, 2000) effective January 6, 2000 through March 5, 2000. The purpose of the deviation was to help facilitate vehicular traffic during the weekday rush hours.

A temporary auxiliary operating system has been installed to open the bridge and the bridge is now operating under its normal operating regulations.

The temporary deviation from the operating regulations is no longer necessary as a result of the bridge being returned to a fully operable status. The bridge owner was advised on January 18, 2000, that the deviation has been withdrawn.

Notice is given that the P.J. McArdle Bridge, mile 0.3, across the Chelsea River shall open on signal at all times for vessel traffic.

Dated: January 25, 2000.
R.M. Larrabee,
Rear Admiral, U.S. Coast Guard Commander, First Coast Guard District.

[FR Doc. 00-2897 Filed 2-8-00; 8:45 am]

BILLING CODE 4910-15-P